DEPARTMENT OF ENERGY

Federal Energy Regulatory Commission

[Docket No. CP18-487-000]

Notice of Schedule for Environmental Review of the Natural Gas Pipeline Company of America, LLC, Sabine Pass Compression Project

On May 18, 2018, Natural Gas Pipeline Company of America, LLC (Natural) filed an application in Docket No. CP18-487-000 requesting a Certificate of Public Convenience and Necessity pursuant to Section 7(c) of the Natural Gas Act to construct and operate certain natural gas pipeline facilities. The proposed project is known as the Sabine Pass Compression Project (Project) and involves the construction and operation of facilities in Cameron Parish, Louisiana. The Project would enable Natural to transport an additional 400,000 dekatherms per day of natural gas for delivery to Sabine Pass Liquefaction, LLC's (Sabine Pass) liquefaction export facility located in Cameron Parish.

On May 31, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—(March 8, 2019)

90-day Federal Authorization Decision Deadline—(June 6, 2019)

If a schedule change becomes necessary, additional notice will be provided so that the relevant agencies are kept informed of the Project's progress.

Project Description

Natural proposes to construct and operate the following facilities: A new 22,490 horsepower Compressor Station No. 348 (CS 348) adjacent to the Sabine Pass Terminal, a new tie-in facility connecting CS 348 to the existing Louisiana Line Nos. 1 and 2, a 36-inch tap on the existing Natural Lateral, and minor modifications at Natural's existing X-L8E South Valve to allow for remote operation of Natural's existing valve.

Background

On July 3, 2018, the Commission issued a Notice of Intent to Prepare an Environmental Assessment for the Proposed Sabine Pass Compression Project and Request for Comments on Environmental Issues (NOI). The NOI was sent to affected landowners; federal, state, and local governmental representatives and agencies; elected officials; environmental and public interest groups; Native American tribes; other interested parties; and local libraries and newspapers. We received comment letters from the Department of Wildlife and Fisheries of the State of Louisiana and the National Marine Fisheries Service's Habitat Conservation Division. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-487), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 14, 2018.
Kimberly D. Bose,
Secretary.

[FR Doc. 2018-27641 Filed 12-20-18; 8:45 am]

BILLING CODE 6717-01-P